DEPARTMENT OF COMMERCE

International Trade Administration

[A-570-899]

Artist Canvas from the People's Republic of China: Final Results of the Expedited First Sunset Review of the Antidumping Duty Order

AGENCY: Import Administration, International Trade Administration, Department of Commerce.

SUMMARY: On May 2, 2011, the Department of Commerce (“Department”) initiated the first sunset review of the antidumping duty order on artist canvas from the People's Republic of China (“PRC”) pursuant to section 751(c) of the Tariff Act of 1930, as amended (“Act”). See Initiation of Five-Year (“Sunset”) Review, 76 FR 24459 (May 2, 2011) (“Sunset Initiation”); see also Notice of Antidumping Duty Order: Certain Artist Canvas from the People's Republic of China, 71 FR 31154 (June 1, 2006) (“Order”). On May 17, 2011, Tara Materials, Inc. (“Tara Materials”), the petitioner in the artist canvas investigation, notified the Department that it intended to participate in the sunset review. The Department did not receive a substantive response from any respondent party. Based on the notice of intent to participate and adequate response filed by the domestic interested party, and the lack of response from any respondent interested party, the Department conducted an expedited sunset review of the Order pursuant to section 751(c)(3)(B) of the Act and 19 CFR 351.218(e)(1)(ii)(C)(2). As a result of this sunset review, the Department finds that revocation of the Order would likely lead to continuation or recurrence of dumping, at the levels indicated in the “Final Results of Sunset Review” section of this notice, infra.

DATES: Effective Date: September 7, 2011.

FOR FURTHER INFORMATION CONTACT: Brooke Kennedy; AD/CVD Operations, Import Administration, International Trade Administration, U.S. Department of Commerce, 14th Street and Constitution Avenue, NW., Washington, DC 20230; telephone: 202-482-3818.

SUPPLEMENTARY INFORMATION:

Background

On May 2, 2011, the Department initiated a sunset review of the order on artist canvas pursuant to section 751(c) of the Act. See Sunset Initiation. On May 17, 2011, the Department received a timely notice of intent to participate in the sunset review from Tara Materials, pursuant to 19 CFR 351.218(d)(1)(i). In accordance with 19 CFR 351.218(d)(1)(ii)(A), Tara Materials claimed interested party status under section 771(9)(C) of the Act as a producer of domestic like product.

On June 1, 2011, Tara Materials filed an adequate substantive response in the sunset review, within the 30-day deadline as specified in 19 CFR 351.218(d)(3)(i). The Department did not receive a substantive response from any respondent interested party in the sunset review. As a result, pursuant to section 751(c)(3)(B) of the Act and 19 CFR 351.218(e)(1)(ii)(C)(2), the Department conducted an expedited sunset review of the Order.

Scope of the Order

The products covered by the order are artist canvases regardless of dimension and/or size, whether assembled or unassembled, that have been primed/coated, whether or not made from cotton, whether or not archival, whether bleached or unbleached, and whether or not containing an ink receptive top coat. Priming/coating includes the application of a solution, designed to promote the adherence of artist materials, such as paint or ink, to the fabric. Artist canvases (i.e., pre-stretched canvases, canvas panels, canvas pads, canvas rolls (including bulk rolls that have been primed), printable canvases, floor cloths, and placemats) are tightly woven prepared painting and/or printing surfaces. Artist canvas and stretcher strips (whether or not made of wood and whether or not assembled) included within a kit or set are covered by the order.

Artist canvases subject to the order are currently classifiable under subheadings 5901.90.20.00 and 5901.90.40.00 of the Harmonized Tariff Schedule of the United States (“HTSUS”). Specifically excluded from the scope of the order are tracing cloths, “paint-by-number” or “paint-it-yourself” artist canvases with a copyrighted preprinted outline, pattern, or design, whether or not included in a painting set or kit.¹ Also excluded are stretcher strips, whether or not made from wood, so long as they are not incorporated into artist canvases or sold as part of an artist canvas kit or set. While the HTSUS subheadings are provided for convenience and customs purposes, our written description of the scope of the order is dispositive.

¹ Artist canvases with a non-copyrighted preprinted outline, pattern, or design are included in the scope, whether or not included in a painting set or kit.

Analysis of Comments Received

A complete discussion of all issues raised in this sunset review is addressed in the accompanying Issues and Decision Memorandum, which is hereby adopted by this notice. See the Department's memorandum entitled, “Issues and Decision Memorandum for the Final Results of the Expedited First Sunset Review of the Antidumping Duty Order on Certain Artist Canvas from the People's Republic of China,” dated August 31, 2011 (“I&D Memo”). The issues discussed in the accompanying I&D Memo include the likelihood of continuation or recurrence of dumping and the magnitude of the dumping margin likely to prevail if the Order is revoked. Parties can obtain a public copy of the I&D Memo on file in the Central Records Unit, room 7046, of the main Commerce building. In addition, a complete public copy of the I&D Memo can be accessed directly on the Web at http://ia.ita.doc.gov/frn. The paper copy and electronic version of the I&D Memo are identical in content.

Final Results of Sunset Review

Pursuant to section 751(c) of the Act, the Department determines that revocation of the Order on artist canvas would likely lead to continuation or recurrence of dumping. The Department also determines that the dumping margins likely to prevail if the Order was revoked are as follows:

Exporters/producers | Weighted- average margin (percent)
Ningbo Conda/Jinhua Universal | 264.09
Ningbo Conda/Wuxi Silver Eagle Cultural Goods Co. Ltd. | 264.09
Conda Painting/Wuxi Pegasus Cultural Goods Co. Ltd. | 264.09
Jinhua Universal/Jinhua Universal | 264.09
Phoenix Materials/Phoenix Materials | 77.90
Phoenix Materials/Phoenix Stationary | 77.90
Phoenix Materials/Shuyang Phoenix | 77.90
Phoenix Stationary/Phoenix Materials | 77.90
Phoenix Stationary/Phoenix Stationary | 77.90
Phoenix Stationary/Shuyang Phoenix | 77.90
Jiangsu By-products/Wuxi Yinying Stationery and Sports Products Co. Ltd. Corp. | 77.90
Jiangsu By-products/Su Yang Yinying Stationery and Sports Products Co. Ltd. Corp. | 77.90
PRC-Wide Entity | 264.09

Notification Regarding Administrative Protective Order

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752, and 777(i)(1) of the Act.

Dated: August 30, 2011.
Ronald K. Lorentzen,
Deputy Assistant Secretary for Import Administration.

[FR Doc. 2011-22864 Filed 9-6-11; 8:45 am]

BILLING CODE 3510-DS-P